DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals, entities, and vessels that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT:

OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On January 15, 2021, OFAC determined that the property and interests in property subject to U.S. jurisdiction of the following individuals and entities are blocked pursuant to the relevant sanctions authorities below.

Individuals

1. APIKIAN, Philipp Paul Vartan; DOB 15 Jan 1969; POB Geneva, Switzerland; citizen Switzerland; Gender Male; Passport X0062329 (Switzerland) issued 27 Feb 2012 expires 26 Feb 2022 (individual) [VENEZUELA-EO13850].

Designated pursuant to section 1(a)(iv) of Executive Order 13850 of November 1, 2018, “Blocking Property of Additional Persons Contributing to the Situation in Venezuela,” 83 FR 55243, 3 CFR, 2019 Comp., p. 881 (E.O. 13850), as amended by Executive Order 13857 of January 25, 2019, “Taking Additional Steps To Address the National Emergency With Respect to Venezuela,” 84 FR 509 (E.O. 13857), for having acted or purported to act for or on behalf of, directly or indirectly, SWISSOIL TRADING SA, a person whose property and interests in property are blocked pursuant to E.O. 13850.

2. BAZZONI, Alessandro, Via Cantonale 8, Lugano 6900, Switzerland; DOB 09 Jul 1971; POB Milan, Italy; citizen Italy; Gender Male; Passport YA9636063 (Italy) issued 12 Jul 2016 expires 11 Jul 2026 (individual) [VENEZUELA-EO13850].

Designated pursuant to section 1(a)(i) and 1(a)(iii) of E.O. 13850, as amended by E.O. 13857, for operating in the oil sector of the Venezuelan economy and materially assisting, sponsoring, or providing financial, material, or technological support for, or goods or services to or in support of PdVSA, a person whose property and interests in property are blocked pursuant to E.O. 13850.

3. D'AGOSTINO CASADO, Francisco Javier, Calle El Parque. Res. Campo Alegre Plaza, Piso 5. Urb. Campo Alegre, Caracas, Miranda 1060, Venezuela; DOB 02 Jun 1974; POB Caracas, Venezuela; nationality Spain; citizen Spain; alt. citizen Venezuela; Gender Male; Cedula No. V-11307398 (Venezuela); Passport XDC221294 (Spain) issued 18 Sep 2015 expires 11 Jul 2018; National ID No. R.E. 201000798316 (Spain) (individual) [VENEZUELA-EO13850].

Designated pursuant to section 1(a)(i) and 1(a)(iii) of E.O. 13850, as amended by E.O. 13857, for operating in the oil sector of the Venezuelan economy and materially assisting, sponsoring, or providing financial, material, or technological support for, or goods or services to or in support of PdVSA, a person whose property and interests in property are blocked pursuant to E.O. 13850.

Entities

1. 82 ELM REALTY LLC, 450 Park Avenue, Ste 1403, New York, NY 10022, United States; Company Number 3848561 (New York) (United States) [VENEZUELA-EO13850].

Designated pursuant to section 1(a)(iv) of E.O. 13850, as amended by E.O. 13857, for being owned or controlled by D'AGOSTINO CASADO, Francisco Javier, a person whose property and interests in property are blocked pursuant to E.O. 13850.

2. AMG S.A.S. DI ALESSANDRO BAZZONI & C. (a.k.a. AMG S.A.S. DI ALESSANDRO BAZZONI AND C.; a.k.a. AMG S.A.S. DI ALESSANDRO BAZZONI E C.), Via Sottomonte 5, Verona 37124, Italy; V.A.T. Number IT02483560237 (Italy) [VENEZUELA-EO13850].

Designated pursuant to section 1(a)(iv) of E.O. 13850, as amended by E.O. 13857, for being owned or controlled by BAZZONI, Alessandro, a person whose property and interests in property are blocked pursuant to E.O. 13850.

3. CATALINA HOLDINGS CORP., New York, NY 10107-1706, United States; Company Number 3934472 (New York) (United States) [VENEZUELA-EO13850].

Designated pursuant to section 1(a)(iv) of E.O. 13850, as amended by E.O. 13857, for being owned or controlled by D'AGOSTINO CASADO, Francisco Javier, a person whose property and interests in property are blocked pursuant to E.O. 13850.

4. D'AGOSTINO & COMPANY, LTD (a.k.a. D'AGOSTINO AND COMPANY, LTD), Torre Dayco, Piso PH, Caracas, Venezuela; Organization Type: Other financial service activities, except insurance and pension funding activities, n.e.c. [VENEZUELA-EO13850].

Designated pursuant to section 1(a)(iv) of E.O. 13850, as amended by E.O. 13857, for being owned or controlled by D'AGOSTINO CASADO, Francisco Javier, a person whose property and interests in property are blocked pursuant to E.O. 13850.

5. ELEMENT CAPITAL ADVISORS LTD, Avenida Federico Boyd con Calle 49, Edificio Alfaro Piso 4 Oficina 4-A, Apartado 0832-00998, Panama City, Panama; Virgin Islands, British; website www.element-capital.com; Nationality of Registration Virgin Islands, British; Organization Type: Other financial service activities, except insurance and pension funding activities, n.e.c.; Company Number 1476279 (Virgin Islands, British) [VENEZUELA-EO13850].

Designated pursuant to section 1(a)(iv) of E.O. 13850, as amended by E.O. 13857, for being owned or controlled by D'AGOSTINO CASADO, Francisco Javier, a person whose property and interests in property are blocked pursuant to E.O. 13850.

6. ELEMENTO LTD, 35 Strait Street, Valletta VLT 1434, Malta; 85 St. John Street, Valletta MT-VLT1165, Malta; Norway; website www.elemento.com.mt; Company Number C 72520 (Malta); alt. Company Number 920167667 (Norway) [VENEZUELA-EO13850].

Designated pursuant to section 1(a)(i) and 1(a)(iii) of E.O. 13850, as amended by E.O. 13857, for operating in the oil sector of the Venezuelan economy and materially assisting, sponsoring, or providing financial, material, or technological support for, or goods or services to or in support of PdVSA, a person whose property and interests in property are blocked pursuant to E.O. 13850.

7. ELEMENTO OIL & GAS LTD (a.k.a. ELEMENTO OIL AND GAS LTD), 35 Strait Street, Valletta VLT 1434, Malta; Company Number C 73377 (Malta) [VENEZUELA-EO13850].

Designated pursuant to section 1(a)(iv) of E.O. 13850, as amended by E.O. 13857, for being owned or controlled by BAZZONI, Alessandro, a person whose property and interests in property are blocked pursuant to E.O. 13850.

8. ELEMENTO SOLUTIONS LIMITED, 12 Hay Hill, London W1J 8NR, United Kingdom; Company Number 10289741 (United Kingdom) [VENEZUELA-EO13850].

Designated pursuant to section 1(a)(iv) of E.O. 13850, as amended by E.O. 13857, for being owned or controlled by ELEMENTO LIMITED, a person whose property and interests in property are blocked pursuant to E.O. 13850.

9. JAMBANYANI SAFARIS, 364 Gibson Road, Victoria Falls, Zimbabwe; P.O. Box 155, Victoria Falls, Zimbabwe; website www.jambanyani.com; Organization Established Date 28 Sep 2019; Organization Type: Tour operator activities [VENEZUELA-EO13850].

Designated pursuant to section 1(a)(iv) of E.O. 13850, as amended by E.O. 13857, for being owned or controlled by D'AGOSTINO CASADO, Francisco Javier, a person whose property and interests in property are blocked pursuant to E.O. 13850.

10. SERIGRAPHICLAB DI BAZZONI ALESSANDRO, Via Amsicora 46, Porto Torres 07046, Italy; V.A.T. Number 02732450909 (Italy) [VENEZUELA-EO13850].

Designated pursuant to section 1(a)(iv) of E.O. 13850, as amended by E.O. 13857, for being owned or controlled by BAZZONI, Alessandro, a person whose property and interests in property are blocked pursuant to E.O. 13850.

11. SWISSOIL TRADING SA, Rue Pierre-Fatio 15, Geneva 1204, Switzerland; website https://www.swissoil.trading/; V.A.T. Number CHE-104.851.121 (Switzerland) [VENEZUELA-EO13850].

Designated pursuant to section 1(a)(i) and 1(a)(iii) of E.O. 13850, as amended by E.O. 13857, for operating in the oil sector of the Venezuelan economy and materially assisting, sponsoring, or providing financial, material, or technological support for, or goods or services to or in support of PdVSA, a person whose property and interests in property are blocked pursuant to E.O. 13850.

12. FIDES SHIP MANAGEMENT LLC (a.k.a. TOVARYSTVO Z OBMEZHENOYU VIDPOVIDALNISTYU FIDES SHYP MENEDZHMENT), Bud.42,VUL.MARSELSKA Suvorovsky R-N, Odessa 65123, Ukraine; Organization Established Date 01 Jan 2015 to 31 Dec 2015; Organization Type: Activities of holding companies; alt. Organization Type: Sea and coastal freight water transport [VENEZUELA-EO13850].

Designated pursuant to section 1(a)(i) of E.O. 13850, as amended by E.O. 13857, for operating in the oil sector of the Venezuelan economy.

13. INSTITUTO NACIONAL DE LOS ESPACIOS ACUATICOS E INSULARES (a.k.a. “INEA”), Av. Orinoco, Edificio I.N.E.A., Caracas, Venezuela; Identification Number IMO 4166811 [VENEZUELA-EO13850].

Designated pursuant to section 1(a)(i) of E.O. 13850, as amended by E.O. 13857, for operating in the oil sector of the Venezuelan economy.

14. RUSTANKER LLC, ul Lenina 32, Temryuk, Krasnodarskiy Kray 353500, Russia; Identification Number IMO 6166689 [VENEZUELA-EO13850].

Designated pursuant to section 1(a)(i) of E.O. 13850, as amended by E.O. 13857, for operating in the oil sector of the Venezuelan economy.

On January 15, 2021 OFAC also identified the following vessels as property in which a blocked person has an interest under the relevant sanctions authority listed below:

Vessels

1. BALIAR Crude/Oil Products Tanker Liberia flag; Vessel Registration Identification IMO 9192258 (vessel) [VENEZUELA-EO13850] (Linked To: FIDES SHIP MANAGEMENT LLC).

Identified pursuant to E.O. 13850, as amended by E.O. 13857, as property in which FIDES SHIP MANAGEMENT LLC, a person whose property and interest in property are blocked pursuant to E.O. 13850, as amended by E.O. 13857, has an interest.

2. BALITA (f.k.a. ANGLIA) Crude/Oil Products Tanker Cameroon flag; Vessel Registration Identification IMO 9176773 (vessel) [VENEZUELA-EO13850] (Linked To: FIDES SHIP MANAGEMENT LLC).

Identified pursuant to E.O. 13850, as amended by E.O. 13857, as property in which FIDES SHIP MANAGEMENT LLC, a person whose property and interest in property are blocked pursuant to E.O. 13850, as amended by E.O. 13857, has an interest.

3. DOMANI (f.k.a. GERD KNUTSEN) Shuttle Tanker Cameroon flag; Vessel Registration Identification IMO 9041057 (vessel) [VENEZUELA-EO13850] (Linked To: FIDES SHIP MANAGEMENT LLC).

Identified pursuant to E.O. 13850, as amended by E.O. 13857, as property in which FIDES SHIP MANAGEMENT LLC, a person whose property and interest in property are blocked pursuant to E.O. 13850, as amended by E.O. 13857, has an interest.

4. FREEDOM (f.k.a. MAGUS) Crude Oil Tanker Cameroon flag; Vessel Registration Identification IMO 9018464 (vessel) [VENEZUELA-EO13850] (Linked To: FIDES SHIP MANAGEMENT LLC).

Identified pursuant to E.O. 13850, as amended by E.O. 13857, as property in which FIDES SHIP MANAGEMENT LLC, a person whose property and interest in property are blocked pursuant to E.O. 13850, as amended by E.O. 13857, has an interest.

5. MAKSIM GORKY (f.k.a. MAXIMO GORKI) Crude Oil Tanker Russia flag; Vessel Registration Identification IMO 9590008 (vessel) [VENEZUELA-EO13850] (Linked To: INSTITUTO NACIONAL DE LOS ESPACIOS ACUATICOS E INSULARES (INEA)).

Identified pursuant to E.O. 13850, as amended by E.O. 13857, as property in which INSTITUTO NACIONAL DE LOS ESPACIOS ACUATICOS E INSULARES (INEA), a person whose property and interest in property are blocked pursuant to E.O. 13850, as amended by E.O. 13857, has an interest.

6. SIERRA (f.k.a. SIENNA) Crude/Oil Products Tanker Russia flag; Vessel Registration Identification IMO 9147447 (vessel) [VENEZUELA-EO13850] (Linked To: RUSTANKER LLC).

Identified pursuant to E.O. 13850, as amended by E.O. 13857, as property in which RUSTANKER LLC, a person whose property and interest in property are blocked pursuant to E.O. 13850, as amended by E.O. 13857, has an interest.

Dated: January 15, 2021.
Andrea Gacki,
Director, Office of Foreign Assets Control.

[FR Doc. 2021-01853 Filed 1-27-21; 8:45 am]

BILLING CODE 4810-AL-P